INTERNATIONAL TRADE COMMISSION

[Investigation No. 337-TA-1149]

Certain Semiconductor Devices, Integrated Circuits, and Consumer Products Containing the Same; Commission Determination Not To Review an Initial Determination Granting a Motion To Amend the Complaint and Notice of Investigation

AGENCY: U.S. International Trade Commission.

ACTION: Notice.

SUMMARY: Notice is hereby given that the U.S. International Trade Commission has determined not to review an initial determination (“ID”) (Order No. 15) issued by the presiding administrative law judge (“ALJ”), granting a motion to amend the complaint and notice of investigation.

FOR FURTHER INFORMATION CONTACT: Robert Needham, Office of the General Counsel, U.S. International Trade Commission, 500 E Street SW, Washington, DC 20436, telephone (202) 708-5468. Copies of non-confidential documents filed in connection with this investigation are or will be available for inspection during official business hours (8:45 a.m. to 5:15 p.m.) in the Office of the Secretary, U.S. International Trade Commission, 500 E Street SW, Washington, DC 20436, telephone (202) 205-2000. General information concerning the Commission may also be obtained by accessing its internet server (https://www.usitc.gov). The public record for this investigation may be viewed on the Commission's electronic docket (EDIS) at https://edis.usitc.gov. Hearing-impaired persons are advised that information on this matter can be obtained by contacting the Commission's TDD terminal on (202) 205-1810.

SUPPLEMENTARY INFORMATION: The Commission instituted this investigation on April 3, 2019, based on a complaint filed by Innovative Foundry Technologies LLC of Portsmouth, New Hampshire (“IFT”). 84 FR 13065. The complaint, as supplemented, alleges violations of section 337 of the Tariff Act of 1930, as amended, 19 U.S.C. 1337, in the importation into the United States, the sale for importation, and the sale within the United States after importation of certain semiconductor devices, integrated circuits, and consumer products containing the same by reason of infringement of certain claims of U.S. Patent Nos. 6,583,012 (“the '012 patent”); 6,797,572 (“the '572 patent”); 7,009,226; 7,880,236 (“the '236 patent”); and 9,373,548. Id. The Commission's notice of investigation named as respondents BBK Communication Technology Co., Ltd., of Dongguan, China; Vivo Mobile Communication Co., Ltd., of Dongguan, China; OnePlus Technology (Shenzhen) Co., Ltd., of Shenzhen, China (“OnePlus”); Guangdong OPPO Mobile Telecommunications Co., Ltd., of Dongguan, China (“Guandong OPPO”); Hisense Electric Co., Ltd. of Quingdao, China; Hisense USA Corporation of Suwanee, Georgia; Hisense USA Multimedia R & D Center Inc. of Suwanee, Georgia; TCL Corporation of Huizhou City, China; TCL Communication, Inc. of Irvine, California; TTE Technology, Inc. (d/b/a TCL America) of Wilmington, Delaware; TCT Mobile (US) Inc. of Irvine, California; VIZIO, Inc. of Irvine, California (“Vizio”); MediaTek Inc. of Hsinchu City, Taiwan; MediaTek USA Inc. of San Jose, California; Mstar Semiconductor, Inc. of ChuPei City, Taiwan; Qualcomm Incorporated of San Diego, California and Qualcomm Technologies, Inc. of San Diego, California (collectively, “Qualcomm”); Taiwan Semiconductor Manufacturing Company Limited of Hsinchu City, Taiwan; TSMC North America of San Jose, California; and TSMC Technology, Inc. of San Jose, California. Id. at 13066. The Office of Unfair Import Investigations (“OUII”) is participating in this investigation. Id.

On May 27, 2019, IFT moved to amend the complaint and notice of investigation to correct information regarding OnePlus and Guandong OPPO, and to add as a respondent DongGuan OPPO Precision Electronic Corp, Ltd., a subsidiary of Guandong OPPO. IFT also moved to add allegations asserting the '012, '572, and '236 patents against Qualcomm and Vizio based on information learned in discovery. On May 29, 2019, Qualcomm and Vizio opposed the amendment and argued that IFT could have discovered the relevant information through diligent investigation. On June 5, 2019, IFT moved for leave to file a reply in support of its motion.

On June 13, 2019, the ALJ, pursuant to Commission Rule 210.14(b) (19 CFR 210.14(b)), issued the subject ID, granting the motion to amend the complaint and notice of investigation. The ALJ also granted leave to file the reply. No petitions for review of the ID were received.

The Commission has determined not to review the subject ID.

The authority for the Commission's determination is contained in section 337 of the Tariff Act of 1930, as amended (19 U.S.C. 1337), and in part 210 of the Commission's Rules of Practice and Procedure (19 CFR part 210).

By order of the Commission.
Issued: July 10, 2019.
Lisa Barton,
Secretary to the Commission.

[FR Doc. 2019-15012 Filed 7-15-19; 8:45 am]

BILLING CODE 7020-02-P